SMALL BUSINESS ADMINISTRATION

[Declaration of Economic Injury Disaster #9T42]

State of New Jersey (and Contiguous Counties in New York)

Bergen County and the contiguous counties of Essex, Hudson and Passaic in the State of New Jersey; and Bronx, New York, Rockland and Westchester Counties in the State of New York constitute an economic injury disaster loan area as a result of a fire that occurred on October 1, 2002 in Fair Lawn, New Jersey. Eligible small businesses and small agricultural cooperatives without credit available elsewhere may file applications for economic injury assistance as a result of this disaster until the close of business on September 4, 2003 at the address listed below or other locally announced locations: U.S. Small Business Administration, Disaster Area 1 Office, 360 Rainbow Blvd, South 3rd Floor, Niagara Falls, NY 14303.

The interest rate for eligible small businesses and small agricultural cooperatives is 3.5 percent.

The numbers assigned for economic injury for this disaster are 9T4200 for New Jersey; and 9T4300 for New York.

(Catalog of Federal Domestic Assistance Program No. 59002.)
Dated: December 4, 2002.
Hector V. Barreto,
Administrator.

[FR Doc. 02-31190 Filed 12-10-02; 8:45 am]

BILLING CODE 8025-01-P